DEPARTMENT OF HEALTH AND HUMAN SERVICES

Administration for Children and Families

Submission for OMB Review; Comment Request

Title: Youth Education and Relationship Services (YEARS) Descriptive Study.

OMB No.: New Collection,

Description: Since 2006, Congress has authorized dedicated funding (currently at the level of $75 million annually) to support programs providing healthy marriage and relationship education (HMRE). In order to better understand the services that federally-funded HMRE programs are providing to youth and the populations the programs are reaching, The Office of Planning, Research and Evaluation (OPRE), within ACF/HHS, is proposing data collection activity as part of the Youth Education and Relationship Services (YEARS) descriptive study. The data that ACF proposes to collect includes information on funding spent serving youth, the number of youth being served, youth demographic characteristics, characteristics of the organizations or programs serving youth, information on program curricula and contents, and program implementation information. This data is to be collected through a web-based survey that is to be completed by HMRE grantee program staff. This information will be critical to inform future efforts to improve HMRE programs serving youth.

Respondents: Healthy marriage and relationship education (HMRE) grantee program staff.

Note: To fully address the objectives outlined for this project, it was determined that additional information collection beyond what was proposed in the 60 day Federal Register notice is necessary. Therefore, the proposed semi-structured interviews submitted with this request (including the site visit screener and semi structured interviews with Program directors/Administrators, Facilitators, and Partner organizations/providers) require additional burden beyond that originally estimated in the 60 day Federal Register notice.

Annual Burden Estimates
Instrument | Total/annual number of respondents | Number of responses per respondent | Average burden hours per response | Annual burden hours
YEARS Web-based staff survey (Program director/Administrator) | 44 | 1 | 0.5 | 22
YEARS Web-based staff survey (Facilitator) | 44 | 1 | 0.5 | 22
Site visit screener (Program director/Administrator) | 12 | 1 | 0.083 | 1
Semi-structured interview (Program director/Administrator) | 6 | 1 | 1.5 | 9
Semi-structured interview (Facilitator) | 6 | 1 | 1.5 | 9
Semi-structured interview (Partner organization/provider) | 3 | 1 | 1.5 | 5

Estimated Total Annual Burden Hours: 68.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Reports Clearance Officer.

[FR Doc. 2015-19921 Filed 8-12-15; 8:45 am]

BILLING CODE 4184-73-P